DEPARTMENT OF THE INTERIOR

National Park Service

Notice of Inventory Completion for Native American Human Remains and Associated Funerary Objects in the Possession of the University of Nebraska State Museum, Anthropology Research Division, Lincoln, NE; Correction

AGENCY: National Park Service, Interior.

ACTION: Notice; correction.

Notice is here given in accordance with the Native American Graves Protection and Repatriation Act (NAGPRA), 25 U.S.C. 3003, of the completion of an inventory of human remains and associated funerary objects in the possession of the University of Nebraska State Museum, Lincoln, NE. The human remains and associated funerary objects were removed from six localities in Knox County, NE.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

This notice corrects the list of associated funerary objects from the Ponca Fort Site (Nanza), 25KX001, in Knox County, NE. Officials of the University of Nebraska State Museum have identified the wing bone of an eagle in the museum collections and, based on museum records, have determined that it is an associated funerary object that was originally placed with the remains of an individual at this site.

In the notice of inventory completion published on behalf of the museum in the Federal Register of September 19, 1995 (FR doc. 95-23153, pages 48522-48523), paragraphs 4, 16 and 17 are corrected by substituting the following three paragraphs:

Human remains from the Ponca Fort Site (Nanza), 25KX001, Knox County, NE, represent 66 individuals. No known individuals were identified. A total of 5,311 cultural items are associated with these burials, including wood (bark fragments, scraper, shaft smoother, and shaft straightener), copper (beads, bracelets, bells, buttons, coils, neck rings, projectile points, rings, sheets, and cones), glass (beads and button), pipestone (banner stone and pipe fragments), bone (bison tools, pendant, hair pipe bead, and eagle wing bone), stone (grinding slab and unknown artifact), iron (ax, bracelets, projectile points and fragments), lead (bracelet and coils), leather fragments, and shell (unmodified shell and gorgets).

Officials of the University of Nebraska State Museum have determined that, pursuant to 25 U.S.C. 3001(9-10), the human remains described above represent the physical remains of 86 individuals of Native American ancestry. Officials of the University of Nebraska State Museum also have determined that, pursuant to 25 U.S.C. 3001(3)(A), the 5,928 objects described above are reasonably believed to have been placed with or near individual human remains at the time of death or later as part of the death rite or ceremony. Lastly, officials of the University of Nebraska State Museum have determined that, pursuant to 25 U.S.C. 3001(2), there is a relationship of shared group identity that can be reasonably traced between the Native American human remains and associated funerary objects and the Ponca Tribe of Indians of Oklahoma and Ponca Tribe of Nebraska.

Representatives of any other Indian tribe that believes itself to be culturally affiliated with the remains and associated funerary objects should contact Priscilla Grew, NAGPRA Coordinator, University of Nebraska-Lincoln, 301 Bessey Hall, Lincoln, NE 68588-0381, telephone (402) 472-7854, before November 7, 2003. Repatriation of the human remains and associated funerary objects to the Ponca Tribe of Indians of Oklahoma and Ponca Tribe of Nebraska may proceed after that date if no additional claimants come forward.

The University of Nebraska State Museum is responsible for notifying the Ponca Tribe of Indians of Oklahoma and Ponca Tribe of Nebraska that this notice has been published.

Dated: August 8, 2003.
John Robbins,
Assistant Director, Cultural Resources.

[FR Doc. 03-25542 Filed 10-7-03; 8:45 am]

BILLING CODE 4310-70-S